DEPARTMENT OF THE INTERIOR

National Park Service

[NPS-WASO-NRNHL-11045; 2200-3200-665]

National Register of Historic Places; Notification of Pending Nominations and Related Actions

Nominations for the following properties being considered for listing or related actions in the National Register were received by the National Park Service before August 4, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 17, 2012. Before including your address, phone number, email address, or other personal identifying information in your comment, you should be aware that your entire comment—including your personal identifying information—may be made publicly available at any time. While you can ask us in your comment to withhold your personal identifying information from public review, we cannot guarantee that we will be able to do so.

Dated: August 18, 2012.
Alexandra Lord,
Acting Chief, National Register of Historic Places/National Historic Landmarks Program.

FLORIDA

Broward County

West Side Grade School, Old, 301 Harmon Ave., Fort Lauderdale, 12000790

Polk County

Lewis, W. Henry, House, 424 N. Oak St., Fort Meade, 12000791

IOWA

Clinton County

Clinton High School and Public Library (Clinton, Iowa MPS), 600 S. 4th St., Clinton, 12000792

Dubuque County

Upper Central Avenue Commercial Historic District (Dubuque, Iowa MPS), 1460-1965 Central Ave., Dubuque, 12000793

MISSOURI

St. Louis Independent City

Star Bucket Pump Company Building, 1218-1224 N. 15th St., St. Louis (Independent City), 12000794

NEW YORK

Kings County

Old Stone House of Brooklyn, The, 3rd St. at 5th Ave., Brooklyn, 12000797

Rensselaer County

Brownell-Cornell-Gibbs Farmstead (Farmsteads of Pittstown, New York MPS), 606 Groveside Rd., Buskirk, 12000796

Thomas—Wiley—Abbott Farmstead (Farmsteads of Pittstown, New York MPS), 703 Johnsonville Rd., Johnsonville, 12000798

NORTH CAROLINA

Cumberland County

Fayetteville Veterans Administration Hospital Historic District (United States Second Generation Veterans Hospitals MPS), 2300 Ramsey St., Fayetteville, 12000799

OHIO

Cuyahoga County

Oppmann Terrace (Apartment Buildings in Ohio Urban Centers, 1870-1970 MPS), 10119 Detroit Ave., Cleveland, 12000800

Richman Brothers Company, The, 1600 E. 55th St., Cleveland, 12000795

Lawrence County

Grand Army of the Republic Memorial Hall, 401 Railroad St., Ironton, 12000801

Portage County

Franklin Hotel, 176 E. Main St., Kent, 12000802

VERMONT

Windsor County

Spencer Hollow School (Educational Resources of Vermont MPS), 50 Spencer Hollow Rd., Springfield, 12000803

A request for removal has been made for the following resource:

SOUTH DAKOTA

Brule County

Bradshaw, O.G., Elevator, 220 W. Railroad St., Kimball, 12000034

[FR Doc. 2012-21600 Filed 8-30-12; 8:45 am]

BILLING CODE 4312-51-P